DEPARTMENT OF TRANSPORTATION

Office of the Secretary

14 CFR Part 399

[Docket No. DOT-OST-2010-0140]

RIN 2105-AD92

Enhancing Airline Passenger Protections: Full Fare Price Advertising Requirements

AGENCY: Office of the Secretary (OST), Department of Transportation (DOT).

ACTION: Direct final rule; confirmation of effective date.

SUMMARY: This document confirms the effective date of the direct final rule amending the time period for compliance with the full fare and other advertising requirements in 14 CFR 399.84 from January 24, 2012, to January 26, 2012.

DATES: The effective date for the amendment to 14 CFR 399.84, published April 25, 2011, at 76 FR 23110, and delayed July 28, 2011, at 76 FR 45181, was further delayed until January 26, 2012, at 76 FR 78145. The effective date of January 26, 2012 is confirmed.

FOR FURTHER INFORMATION CONTACT: Blane A. Workie, Deputy Assistant General Counsel, Office of the Assistant General Counsel for Aviation Enforcement and Proceedings, U.S. Department of Transportation, 1200 New Jersey Ave. SE., Washington, DC 20590, 202-366-9342 (phone), 202- 366-7152 (fax), blane.workie@dot.gov (email).

SUPPLEMENTARY INFORMATION: The Department of Transportation's Office of the Secretary (OST) published a direct final rule with a request for comments in the Federal Register on December 16, 2011 (76 FR 78145). The direct final rule delayed the effective date of the full fare and other advertising requirements from January 24, 2012, to January 26, 2012, to provide regulatory relief to petitioner American Airlines by allowing the carrier and any other similarly situated carrier or ticket agent to avoid having to update full fare information in on-line reservations systems on a day of the week that is the petitioner's, and may be other carriers' and ticket agents', heaviest on-line traffic and revenue day. OST uses the direct final rulemaking procedure for non-controversial rules where OST believes that there will be no adverse public comment. The direct final rule advised the public that no adverse comments were anticipated, and that unless a written adverse comment was received by December 23, 2011, the full fare and other advertising requirements in 14 CFR 399.84 would become effective on January 26, 2011. No adverse comments were received, and thus this notice confirms that the direct final rule will become effective on that date.

Issued this 27th day of December 2011, in Washington, DC.
Susan Kurland,
Assistant Secretary for Aviation and International Affairs.

[FR Doc. 2011-33595 Filed 12-29-11; 8:45 am]

BILLING CODE 4910-9X-P